DEPARTMENT OF TRANSPORTATION

Federal Aviation Administration

Notice of Availability of Categorical Exclusion and Record of Decision for Ontario International Airport JCKIE ONE RNAV Arrival Procedure

AGENCY: Federal Aviation Administration, (FAA), DOT.

ACTION: Notice of availability.

SUMMARY: The FAA, Western Service Area is issuing this notice to advise the public of the availability of the Categorical Exclusion/Record of Decision (CATEX/ROD) for the Area Navigation (RNAV) standard instrument arrival (STAR) procedure for the Ontario International Airport (KONT) in Ontario, CA. The FAA reviewed the action and determined it to be categorically excluded from further environmental documentation.

FOR FURTHER INFORMATION CONTACT: Ms. Janelle Cass, Federal Aviation Administration, Operations Support Group, Western Service Center, 2200 S 216th St., Des Moines, WA 98198-6547 (206) 231-2231 or https://www.faa.gov/nextgen/nextgen_near_you/community_involvement/ONT/.

SUPPLEMENTARY INFORMATION: The KONT JCKIE STAR procedure is designed to provide aircraft arriving KONT from the east, a nighttime arrival procedure when curfew hours are in place for the Long Beach Airport (KLGB) ROOBY TWO RNAV STAR and the John Wayne KSNA DSNEE TWO RNAV STAR. This alternative routing will provide a high level of safety and efficiency benefits similar to the EAGLZ STAR with the use of performance based navigation (PBN) technology. The JCKIE ONE STAR procedure will operate between the approximate hours of 11:00 p.m. to 6:00 a.m. but would depend on dynamic airspace safety and air traffic conditions which could include, but are not limited, to air traffic volume, weather conditions, airport demands, and air traffic control workload.

Right of Appeal: This CATEX/ROD constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110. Issued in Des Moines, WA, on Mar 7, 2018.

Shawn M. Kozica,
Manager, Operations Support Group, Western Service Center, Air Traffic Organization.

[FR Doc. 2018-05037 Filed 3-12-18; 8:45 am]

BILLING CODE 4910-13-P